DEPARTMENT OF ENERGY

Federal Energy Regulatory Commission

Combined Notice of Filings #1

Take notice that the Commission received the following electric corporate filings:

Docket Numbers: EC13-67-000.

Applicants: Wildcat Wind Farm I, LLC.

Description: Application For Authorization Under Section 203 Of The Federal Power Act, Requests For Waivers Of Filing Requirements, Expedited Review and Confidential Treatment Wildcat Wind Farm I, LLC.

Filed Date: 1/22/13.

Accession Number: 20130122-5357.

Comments Due: 5 p.m. ET 2/12/13.

Take notice that the Commission received the following electric rate filings:

Docket Numbers: ER10-2331-016; ER10-2343-016; ER10-2319-015; ER10-2320-015; ER10-2317-014; ER10-2322-016; ER10-2324-015 ER10-2325-014; ER10-2332-015; ER10-2326-016; ER10-2327-017; ER10-2328-015; ER11-4609-014; ER10-2330-016.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Triton Power Michigan LLC, Utility Contract Funding, L.L.C.

Description: J.P. Morgan Sellers submits Notice of Non-Material Change in Status re Prairie Rose Wind.

Filed Date: 1/22/13.

Accession Number: 20130122-5380.

Comments Due: 5 p.m. ET 2/12/13.

Docket Numbers: ER10-2405-003; ER10-2414-003; ER10-2427-001.

Applicants: High Prairie Wind Farm II, LLC, Old Trail Wind Farm, LLC, Telocaset Wind Power Partners, LLC.

Description: Notice of Non-Material Change in Status of High Prairie Wind Farm II, LLC, et al.

Filed Date: 1/22/13.

Accession Number: 20130122-5355.

Comments Due: 5 p.m. ET 2/12/13.

Docket Numbers: ER10-2609-003; ER10-2604-001; ER10-2603-001; ER10-2602-003; ER10-2606-003.

Applicants: Escanaba Paper Company, Luke Paper Company, Rumford Paper Company, New Page Energy Services, Inc., Consolidated Water Power Company.

Description: Notice of Non-Material Change in Status of NewPage MBR Companies.

Filed Date: 1/22/13.

Accession Number: 20130122-5374.

Comments Due: 5 p.m. ET 2/12/13.

Docket Numbers: ER10-2763-006; ER10-2732-006; ER10-2733-006; ER10-2734-006; ER10-2736-006; ER10-2737-006; ER10-2741-006; ER10-2749-006; ER10-2752-006; ER12-2492-002; ER12-2493-002; ER12-2494-002; ER12-2495-002; ER12-2496-002.

Applicants: Bangor Hydro Electric Company, Emera Energy U.S. Subsidiary No. 1, Inc, Emera Energy U.S. Subsidiary No. 2, Inc., Emera Energy Services Subsidiary No. 1 LLC, Emera Energy Services Subsidiary No. 2 LLC,mera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10, Emera Energy Services, Inc.

Description: Notice of Change in Status of Bangor Hydro Electric Company, et al.

Filed Date: 1/22/13.

Accession Number: 20130122-5373.

Comments Due: 5 p.m. ET 2/12/13.

Docket Numbers: ER11-3342-001.

Applicants: Dynasty Power Inc..

Description: Notice of Change in Status of Dynasty Power Inc.

Filed Date: 1/22/13.

Accession Number: 20130122-5368.

Comments Due: 5 p.m. ET 2/12/13.

Docket Numbers: ER11-4266-004.

Applicants: Richland-Stryker Generation LLC.

Description: Notice of Non-Material Change in Status of Richland-Stryker Generation LLC.

Filed Date: 1/22/13.

Accession Number: 20130122-5381.

Comments Due: 5 p.m. ET 2/12/13.

Docket Numbers: ER12-1653-002.

Applicants: New York Independent System Operator, Inc.

Description: New York Independent System Operator, Inc. submits NYISO Compliance Filing: Order No. 755, Frequency Regulation to be effective 12/31/9998.

Filed Date: 1/22/13.

Accession Number: 20130122-5270.

Comments Due: 5 p.m. ET 2/12/13.

Docket Numbers: ER12-2037-001.

Applicants: Spearville 3, LLC.

Description: Notice of Non-Material Change in Status of Spearville 3, LLC..

Filed Date: 1/22/13.

Accession Number: 20130122-5371.

Comments Due: 5 p.m. ET 2/12/13.

Docket Numbers: ER12-2310-002.

Applicants: Zephyr Wind, LLC.

Description: Zephyr Wind, LLC submits Compliance Filing to be effective 1/22/2013.

Filed Date: 1/22/13.

Accession Number: 20130122-5276.

Comments Due: 5 p.m. ET 2/12/13.

Docket Numbers: ER12-2314-001.

Applicants: Merrill Lynch Commodities, Inc.

Description: Notice of Non-Material Change in Status of Spinning Spur Wind LLC.

Filed Date: 1/22/13.

Accession Number: 20130122-5350.

Comments Due: 5 p.m. ET 2/12/13.

Docket Numbers: ER12-2627-002.

Applicants: Catalina Solar, LLC.

Description: Notice of Non-Material Change in Status of Catalina Solar, LLC.

Filed Date: 1/22/13.

Accession Number: 20130122-5352.

Comments Due: 5 p.m. ET 2/12/13.

Docket Numbers: ER13-168-001.

Applicants: California Independent System Operator Corporation.

Description: California Independent System Operator Corporation submits tariff filing per 35: 2013-01-22 Western-DSR IBAAOA Amendment No. 2 Compliance Filing to be effective 1/3/2013.

Filed Date: 1/22/13.

Accession Number: 20130122-5277.

Comments Due: 5 p.m. ET 2/12/13.

Docket Numbers: ER13-218-001.

Applicants: California Independent System Operator Corporation.

Description: California Independent System Operator Corporation submits 2012-01-22 Generator Project Downsizing Compliance Filing to be effective 1/1/2013.

Filed Date: 1/22/13.

Accession Number: 20130122-5253.

Comments Due: 5 p.m. ET 2/12/13.

Docket Numbers: ER13-712-001.

Applicants: Cimarron Wind Energy, LLC.

Description: Cimarron Wind Energy, LLC submits Amendment to Notice of Succession and Revisions to Market Based Rate Tariff to be effective 1/5/2013.

Filed Date: 1/22/13.

Accession Number: 20130122-5266.

Comments Due: 5 p.m. ET 2/12/13.

Docket Numbers: ER13-789-000.

Applicants: New York State Electric & Gas Corporation, New York Independent System Operator, Inc.

Description: New York State Electric & Gas Corporation submits Amended Restated SGIA No. 1677 among NYISO, NYSEG and AES Westover to be effective 12/26/2012.

Filed Date: 1/22/13.

Accession Number: 20130122-5244.

Comments Due: 5 p.m. ET 2/12/13.

Take notice that the Commission received the following public utility holding company filings:

Docket Numbers: PH13-10-000.

Applicants: The Goldman Sachs Group, Inc.

Description: The Goldman Sachs Group, Inc. submits Notice of Material Change in Facts of FERC-65B Waiver Notification.

Filed Date: 1/22/13.

Accession Number: 20130122-5330.

Comments Due: 5 p.m. ET 2/12/13.

Docket Numbers: PH13-11-000.

Applicants: JP Morgan Chase & Co.

Description: JPMorgan Chase & Co. submits FERC-65-B Waiver Notification.

Filed Date: 1/22/13.

Accession Number: 20130122-5378.

Comments Due: 5 p.m. ET 2/12/13.

Docket Numbers: PH13-12-000.

Applicants: NewPage Holdings, Inc.

Description: NewPage Holdings, Inc. submits FERC-65-B Waiver Notification.

Filed Date: 1/22/13.

Accession Number: 20130122-5379.

Comments Due: 5 p.m. ET 2/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2013.
Nathaniel J. Davis, Sr.,
Deputy Secretary.

[FR Doc. 2013-02068 Filed 1-30-13; 8:45 am]

BILLING CODE 6717-01-P